NATIONAL FOUNDATION ON THE ARTS AND THE HUMANITIES

Arts Advisory Panel Meeting

AGENCY: National Endowment for the Arts, National Foundation on the Arts and Humanities.

ACTION: Notice of meeting.

SUMMARY: Pursuant to Section 10(a)(2) of the Federal Advisory Committee Act (Pub. L. 92-463), as amended, notice is hereby given that fourteen meetings of the Arts Advisory Panel to the National Council on the Arts will be held at the Nancy Hanks Center, 1100 Pennsylvania Avenue NW., Washington, DC 20506 as follows (ending times are approximate):

Dance (application review): In room 716. This meeting will be closed.

Dates: May 31-June 1, 2012; 9:00 a.m. to 5:30 p.m. EDT on May 31st and 9:00 a.m. to 5:00 p.m. EDT on June 1st.

Artist Communities (application review): In room 714. This meeting will be closed.

Dates: June 4, 2012, from 9:00 a.m. to 4:45 p.m. EDT.

Local Arts Agencies (application review): In room 627. This meeting will be closed.

Dates: June 5, 2012 from 9:00 a.m.—2:00 p.m. EDT.

Dance (application review): In room 716. This meeting will be closed.

Dates: June 5-6, 2012; 9:00 a.m. to 5:30 p.m. EDT on June 5th and 9:00 a.m. to 5:00 p.m. EDT on June 6th.

Music (application review): In room 714. This meeting will be closed.

Dates: June 11-12, 2012. From 9:00 a.m. to 5:30 p.m. EDT on June 11th and 9:00 a.m. to 4:30 p.m. EDT on June 12th.

Presenting (application review): In room 627. This meeting will be closed.

Dates: June 11-12, 2012. From 9:00 a.m. to 5:30 p.m. EDT on June 11th and 9:00 a.m. to 3:00 p.m. EDT on June 12th.

Media Arts (application review): In room 730. This meeting will be closed.

Dates: June 12-13, 2012. From 9:00 a.m. to 5:30 p.m. EDT on June 12th and 9:00 a.m. to 5:00 p.m. EDT on June 13th.

Theater/Musical Theater (application review): In room 627. This meeting will be closed.

Dates: June 13-14, 2012. From 9:00 a.m. to 5:30 p.m. EDT on June 13th and 9:00 a.m. to 3:00 p.m. EDT on June 14th.

Arts Education (application review): In room 716. This meeting will be closed.

Dates: June 19, 2012, from 9:00 a.m. to 5:00 p.m. EDT.

Arts Education (application review): In room 716. This meeting will be closed.

Dates: June 20, 2012, from 9:00 a.m. to 5:00 p.m. EDT.

Folk and Traditional Arts (application review): In room 627. This meeting will be closed.

Dates: June 21, 2012 from 9:00 a.m. to 5:00 p.m. EDT.

Folk and Traditional Arts (application review): In room 627. This meeting will be closed.

Dates: June 22, 2012 from 9:00 a.m. to 4:00 p.m. EDT.

Opera (application review): In room 714. This meeting will be closed.

Dates: June 25, 2012 from 9:00 a.m. to 5:30 p.m. EDT.

Opera (application review): In room 714. This meeting will be closed.

Dates: June 26, 2012 from 9:00 a.m. to 5:30 p.m. EDT.

FOR FURTHER INFORMATION CONTACT: Further information with reference to these meetings can be obtained from Ms. Kathy Plowitz-Worden, Office of Guidelines & Panel Operations, National Endowment for the Arts, Washington, DC 20506, or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: May 8, 2012.
Kathleen Edwards,
Support Services Supervisor, Administrative Services, National Endowment for the Arts.

[FR Doc. 2012-11431 Filed 5-10-12; 8:45 am]

BILLING CODE 7537-01-P